DEPARTMENT OF COMMERCE

Foreign-Trade Zones Board

[B-54-2016]

Foreign-Trade Zone 124—Gramercy, Louisiana; Application for Expansion of Subzone 124D; LOOP LLC; Lafourche and St. James Parishes, Louisiana

An application has been submitted to the Foreign-Trade Zones (FTZ) Board by the Port of South Louisiana, grantee of FTZ 124, requesting an expansion of Subzone 124D on behalf of LOOP LLC. The application was submitted pursuant to the provisions of the Foreign-Trade Zones Act, as amended (19 U.S.C. 81a-81u), and the regulations of the FTZ Board (15 CFR part 400). It was formally docketed on August 16, 2016.

Subzone 124D was approved on June 1, 1995 (Board Order 748, 60 FR 30267, June 8, 1995) and expanded on March 29, 2002 (Board Order 1217, 67 FR 17048, April 9, 2002). The subzone currently consists of two sites located in Lafourche and St. James Parishes: Site 1 (520.72 acres total and 37 miles of pipeline) includes the following parcels: Parcel A (10 acres)—Fourchon Booster Station, Highway 1, Fourchon; Parcel B (287 acres)—Clovelly Dome Storage Terminal, Clovelly; Parcel D (27 acres)—Operations Center, 224 E. 101 Place, Cut Office; Parcel E (103.5 acres)—Clovelly Tank Farm, South Lafourche Airport Road, Clovelly; Parcel F (80 acres)—Tank Farm adjacent to Parcel E, Clovelly; and, Parcel G (13.22 acres)—Small Boat Harbor, located on Bayou Lafourche, Port Fourchon; and, Site 2 (124 acres and 55 miles of pipeline)—St. James Terminal, located on Bayou Lafourche, Port Fourchon.

The applicant is requesting authority to expand Site 1 of the subzone to include a new 16-acre parcel (Parcel H). The new parcel is located at 224 East 101 Place in Cut Off. No additional authorization for production activity has been requested at this time.

In accordance with the FTZ Board's regulations, Camille Evans of the FTZ Staff is designated examiner to review the application and make recommendations to the FTZ Board.

Public comment is invited from interested parties. Submissions shall be addressed to the FTZ Board's Executive Secretary at the address below. The closing period for their receipt is October 3, 2016. Rebuttal comments in response to material submitted during the foregoing period may be submitted during the subsequent 15-day period to October 17, 2016.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Camille Evans at Camille.Evans@trade.gov or (202) 482-2350.

Dated: August 16, 2016.
Andrew McGilvray,
Executive Secretary.

[FR Doc. 2016-20020 Filed 8-19-16; 8:45 am]

BILLING CODE 3510-DS-P